DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before August 12, 2011.

ADDRESSES: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Copies of the applications are available for inspection in the Records Center, East Building, PHH-30, 1200 New Jersey Ave., SE, Washington, DC or at http://regulations.gov.

This notice of receipt of applications for modification of special permit is published in accordance with part 107 of the Federal hazardous materials transportation law (49 U.S.C. 5117(b); 49 CFR 1.53(b)).

Issued in Washington, DC, on July 21, 2011.
Donald Burger,
Chief, General Approvals and Permits.

Application No. | Docket No. | Applicant Regulations affected | Nature of special permits thereof
MODIFICATION SPECIAL PERMITS
9168-M |  | All-Pak Dangerous Goods, a Berlin Packaging (Former Grantee All-Pak, Inc.), Bridgeville, PA | 49 CFR Part 172; Subpart E; 173.118; 173.244; 173.345; 173.346; 173.359; 173.370; 173.377; 175.3; 175.33; 172.504; 173.3 | To modify the special permit to authorize an additional mode of transportation (cargo vessel.)
12092-M |  | KMR Industries, LLC, Columbia, MD | 49 CFR 173.34(e) | To modify the special permit to authorize additional modes of transportation (rail and cargo vessel).
14743-M |  | TIER Environmental Services, Inc. (Former Grantee TIER DE, Inc.), Gap, PA | 49 CFR 173.24b and 173.244 | To modify the special permit to authorize one-time, one-way transportation in commerce of an additional non-DOT specification metal tank containing approximately 1320 lbs. of sodium by motor vehicle.
14778-M | PHMSA-08-0275 | Metalcraft/Sea Fire Marine Inc., Baltimore, MD | 49 CFR 173.301(f) | To modify the special permit to authorize the transportation in commerce of additional non-DOT specification cylinders containing a Division 2.2 compressed gas for export only.
14924-M |  | Explosive Service International Ltd., Baton Rouge, LA | 49 CFR 176.144(e), 176.145(b), 176.137(b)(7), 176.63(e), 176.83 and 176.138(b) | To modify the special permit to authorize the transportation in commerce of certain Division 1.1D and 1.4B explosives by vessel in an alternative configuration.

[FR Doc. 2011-18839 Filed 7-27-11; 8:45 am]

BILLING CODE 4910-60-M